DEPARTMENT OF THE TREASURY

Community Development Financial Institutions Fund

Notice of Information Collection and Request for Public Comment

ACTION: Notice and request for public comment.

SUMMARY: The U.S. Department of the Treasury, as part of its continuing effort to reduce paperwork and respondent burden, invites the general public and other Federal agencies to take this opportunity to comment on proposed information collections, as required by the Paperwork Reduction Act of 1995. Currently, the Community Development Financial Institutions Fund (CDFI Fund), the Department of the Treasury, is soliciting comments concerning the Uses of Awards Report Form. The Uses of Award Report Form is an online form submitted through the CDFI Fund's Awards Management Information System (AMIS).

DATES: Written comments must be received on or before November 25, 2022 to be assured of consideration.

ADDRESSES: Submit your comments via email to Heather Hunt, Program Manager for the Office of Compliance Monitoring and Evaluation (OCME), CDFI Fund at CCME@cdfi.treas.gov.

FOR FURTHER INFORMATION CONTACT: Requests for additional information should be directed to Heather Hunt, OCME Program Manager, CDFI Fund, U.S. Department of the Treasury, 1500 Pennsylvania Avenue NW, Washington, DC 20220, (202) 653-0241 (not a toll-free number). Other information regarding the CDFI Fund and its programs may be obtained on the CDFI Fund website at https://www.cdfifund.gov.

SUPPLEMENTARY INFORMATION:

Title: Uses of Award Report Form.

OMB Number: 1559-0032.

Abstract: Recipients of the Bank Enterprise Award Program (BEA Program), the Community Development Financial Institutions Program (CDFI Program), the CDFI Rapid Response Program (CDFI RRP), the Native American CDFI Assistance Program (NACA Program), and the Small Dollar Loan Program (SDL Program) submit the Uses of Award Report via the CDFI Fund's AMIS once a year, three (3) months after their Period of Performance (BEA Program) end date or fiscal year end (CDFI, CDFI RRP, NACA and SDL Programs). Recipients respond to the questions below by providing numerical figures, “yes” or “no” answers, or narrative responses, as appropriate. This report is used to determine Recipient compliance with the applicable performance goals in their Award or Assistance Agreement, and to demonstrate how award funds are expended. There is no significant content change to the form, however minor, non-substantive modifications were made to the Uses of Award Report to include changes resulting from the implementation of new programs and modifications to existing Award and Assistance Agreements.

Current Actions: Extension without change of currently approved collection.

Type of Review: Regular.

Affected Public: Businesses or other for-profit institutions, non-profit entities, and State, local and Tribal entities participating in the CDFI Fund programs.

Estimated Number of Respondents: 1,902.

Frequency of Responses: Annually.

Estimated Total Number of Annual Responses: 1,902.

Estimated Annual Time per Respondent: 45 min.

Estimated Total Annual Burden Hours: 1,426.5 hours.

Requests for Comments: Comments submitted in response to this notice will be summarized and/or included in the request for Office of Management and Budget (OMB) approval. All comments will become a matter of public record and may be published on the CDFI Fund website at http://www.cdfifund.gov. Comments are invited on: (a) whether the collection of information is necessary for the proper performance of the functions of the agency, including whether the information shall have practical utility; (b) the accuracy of the agency's estimate of the burden of the collection of information; (c) ways to enhance the quality, utility, and clarity of the information collected; (d) ways to minimize the burden of the collection of information on respondents, including through the use of technology; and (e) estimates of capital or start-up costs and costs of operation, maintenance, and purchase of services to provide information.

An agency may not conduct or sponsor, and a person is not required to respond to, a collection of information unless the collections of information displays a valid OMB control number.

Authority: 12 U.S.C. 4704, 4713, 4719; 12 CFR parts 1805, 1806, 1815.

Jodie L. Harris.
Director, Community Development Financial Institutions Fund.

[FR Doc. 2022-20714 Filed 9-23-22; 8:45 am]

BILLING CODE 4810-70-P